DEPARTMENT OF ENERGY

Federal Energy Regulatory Commission

[Project No. 13679-004]

JD Products, LLC; Notice of Preliminary Permit Application Accepted for Filing and Soliciting Comments, Motions To Intervene, and Competing Applications

On October 1, 2013, JD Products, LLC (JD Products) filed an application for a successive preliminary permit, pursuant to section 4(f) of the Federal Power Act, proposing to study the feasibility of the proposed San Onofre Electricity Farm Project (project). The proposed project would utilize up to 1,314 generation units, with an estimated installed capacity of 2,000 megawatts with a projected average annual generation of about 17,519 megawatthours. The requested project boundary comprises of approximately 6 square nautical miles of coastal waters and lands located along the coast of San Diego County, California, near the towns of San Onofre and San Clemente, and include portions of the San Onofre California State Park and the United States Marine Corps Base Camp Pendleton.

The sole purpose of a preliminary permit, if issued, is to grant the permit holder priority to file a license application during the permit term. A preliminary permit does not authorize the permit holder to perform any land disturbing or construction activities or to otherwise enter upon lands or waters owned by others without the owners' express permission.

Applicant Contact: Chong Hun Kim, JD Products, LLC., 16807 Woodridge Circle, Fountain Valley, CA 92708; (714)964-5419.

FERC Contact: Kenneth Hogan, (202) 502-8434, or via email at: Kenneth.hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link.

For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and 5 copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13679) in the docket number field to access the document. For assistance, contact FERC Online Support.

Dated: November 8, 2013.
Kimberly D. Bose,
Secretary.

[FR Doc. 2013-27527 Filed 11-15-13; 8:45 am]

BILLING CODE 6717-01-P